DEPARTMENT OF LABOR

Employment and Training Administration

[TA-W-63,520]

American Dynamics, Sensormatic Electronics, a Subsidiary of Tyco International, Access Control and Video Systems Division, San Diego, CA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 14, 2008, applicable to workers of American Dynamics, Access Control and Video Systems Division, Subsidiary of Sensormatic Electronics, San Diego, California. The notice was published in the Federal Register on July 30, 2008 (73 FR 44284).

At the request of the State agency, the Department reviewed the certification for workers of the subject firm. The workers produce computer software coding for digital video management systems.

The State reports that some of the workers wages are reported to the Unemployment Insurance (UI) tax account under the parent company's name, Tyco International. Further review of the file shows that the name of the firm was not correctly identified. American Dynamics is not a subsidiary of Sensormatic Electronics. The legal name for American Dynamics is Sensormatic Electronics which is a subsidiary of Tyco International.

Based on the findings above the Department is amending the certification to correctly identify the name of the subject firm and include those workers whose UI wages are reported under Tyco International.

The amended notice applicable to TA-W-63,520 is hereby issued as follows:

All workers of American Dynamics, Sensormatic Electronics, a subsidiary of Tyco International, Access Control and Video Systems Division, San Diego, California, who became totally or partially separated from employment on or after June 6, 2007 through July 14, 2010, are eligible to apply for adjustment assistance under Section 223 of the Trade Act of 1974, and are also eligible to apply for alternative trade adjustment assistance under Section 246 of the Trade Act of 1974.

Signed in Washington, DC, this 15th day of August 2008.
Linda G. Poole,
Certifying Officer, Division of Trade Adjustment Assistance.

[FR Doc. E8-20043 Filed 8-28-08; 8:45 am]

BILLING CODE 4510-FN-P